DEPARTMENT OF TRANSPORTATION

Federal Aviation Administration

14 CFR Part 39

[Docket No. FAA-2013-0602; Directorate Identifier 2012-CE-010-AD]

RIN 2120-AA64

Airworthiness Directives; Vulcanair S.p.A. Airplanes

AGENCY: Federal Aviation Administration (FAA), Department of Transportation (DOT).

ACTION: Notice of proposed rulemaking (NPRM).

SUMMARY: We propose to adopt a new airworthiness directive (AD) for Vulcanair S.p.A. (type certificate previously held by Partenavia) Models P 68, P 68B, P 68C, P 68C-TC, P 68 “OBSERVER,” P68TC “OBSERVER,” and P68 “OBSERVER 2” airplanes that would supersede AD 2008-24-11, Amendment 39-15751. This proposed AD results from mandatory continuing airworthiness information (MCAI) originated by an aviation authority of another country to identify and correct an unsafe condition on an aviation product. The MCAI describes the unsafe condition as cracking and/or corrosion of the wing spar, which could result in structural failure of the wing. We are issuing this proposed AD to require actions to address the unsafe condition on these products.

DATES: We must receive comments on this proposed AD by August 23, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Vulcanair Airworthiness Office, Via G Pascoli, 7, 80026 Casoria, Italy; phone: +39 081 59 18 135; fax: +39 081 59 18 172; email: airworthiness@vulcanair.com; Internet: http://www.vulcanair.com/page-view.php?pagename=Service Bulletins. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Mike Kiesov, Aerospace Safety Engineer, FAA, Small Airplane Directorate, 901 Locust, Kansas City, Missouri 64106; telephone: (816) 329-4144; fax: (816) 329-4090; email: mike.kiesov@faa.gov.

SUPPLEMENTARY INFORMATION:

Comments Invited

We invite you to send any written relevant data, views, or arguments about this proposed AD. Send your comments to an address listed under the ADDRESSES section. Include “Docket No. FAA-2013-0602; Directorate Identifier 2012-CE-010-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On November 19, 2008, we issued AD 2008-24-11, Amendment 39-15751 (73 FR 72314; November 28, 2008). That AD required actions intended to address an unsafe condition on the Vulcanair S.p.A. Models P 68, P 68B, P 68C, P 68C-TC, P 68 “OBSERVER,” AP68TP300 “SPARTACUS,” P68TC “OBSERVER,” AP68TP 600 “VIATOR,” and P68 “OBSERVER 2” airplanes.

Since we issued AD 2008-24-11 (73 FR 72314; November 28, 2008), Vulcanair S.p.A. developed modification kits to repair certain lower spar caps. They also developed a maintenance manual supplement with special inspections of the wing and stabilator structures and new limitations for the wing structure.

The FAA also realized that the Models AP68TP300 ”SPARTACUS” and AP68TP 600 ”VIATOR” were inadvertenly included in AD 2008-24-11.

The European Aviation Safety Agency (EASA), which is the Technical Agent for the Member States of the European Community, has issued AD No.: 2010-0051, dated March 25, 2010 (referred to after this as “the MCAI”), to correct an unsafe condition for the specified products. The MCAI states:

Safe Life Limits of the wing structure of P.68 Series aeroplanes have now been extended up to a maximum of 23 900 Flight Hours (FH), depending on the condition of the spar lower cap angles and on the embodiment of some modification kits. Furthermore, special inspections of the wing and stabilator structures, different from those previously required by EASA AD 2007-0027, have also been introduced. This change has been developed by Vulcanair under change No. MOD. P68/144 approved by EASA with approval No. 10028661 on 02 February 2010.

Consequently this AD, which supersedes EASA AD 2007-0027, allows the implementation of the extended Safe Life Limits, in accordance with the instructions of Vulcanair SB 162, and requires the accomplishment of special inspections for the wing and stabilator structures, in accordance with the Aircraft Maintenance Manual (AMM) Supplement part number (P/N) NOR 10.771-52.

You may obtain further information by examining the MCAI in the AD docket.

EASA AD No.: 2010-0051, dated March 25, 2010; Vulcanair S.p.A. Maintenance Manual Supplement NOR10.771-52, dated March 1, 2010; Vulcanair S.p.A. Service Bulletin No. 162, dated March 1, 2010; Vulcanair S.p.A. Service Instruction No. 88, dated March 1, 2010; and Vulcanair S.p.A. Service Instruction No. 89, dated March 1, 2010, base the extended safe life limits on repetitive inspections and other required preventive and corrective actions that under certain conditions allow flight with known cracks in critical structure. The FAA's Small Airplane Directorate does not allow further flight with known cracks in critical structure without additional substantiating data. Advisory Circular (AC) 23-13A, Chapter 6, dated September 29, 2005, describes what additional data is required to allow flight with known cracks (found on the Internet at http://rgl.faa.gov/Regulatory_and_Guidance_Library/rgAdvisoryCircular.nsf).

Relevant Service Information

Vulcanair S.p.A. has issued Maintenance Manual Supplement NOR10.771-52, dated March 1, 2010; Vulcanair S.p.A. Service Bulletin No. 162, dated March 1, 2010; Vulcanair S.p.A. Service Instruction No. 88, dated March 1, 2010; and Vulcanair S.p.A. Service Instruction No. 89, dated March 1, 2010. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 75 products of U.S. registry. We also estimate that it would take about 60 work-hours per product to comply with the basic requirements of this proposed AD. The average labor rate is $85 per work-hour.

Based on these figures, we estimate the cost of the proposed AD on U.S. operators to be $382,500, or $5,100 per product.

We estimate that the wing replacement would take about 300 work-hours and require parts costing $443,406, for a cost of $468,906 per product. Wing replacement is only required when the wing structure exceeds the safe life established in this AD.

In addition, we estimate that any necessary follow-on actions for kit installation would take about 120 work-hours and require parts costing $2,595, for a cost of $12,795 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products.

Initial Regulatory Flexibility Analysis

This section presents the initial regulatory flexibility analysis (IRFA) that was done for this action. We have reworded and reformatted for Federal Register publication purposes. The IRFA in its original form can be found in the docket at http://www.regulations.gov.

Introduction and Purpose of This Analysis

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, the RFA requires agencies to solicit and consider flexible regulatory proposals and to explain the rationale for their actions to assure that such proposals are seriously considered.” The RFA covers a wide-range of small entities, including small businesses, not-for-profit organizations, and small governmental jurisdictions.

Agencies must perform a review to determine whether a rule will have a significant economic impact on a substantial number of small entities. If the agency determines that it will, the agency must prepare an IRFA as described in the RFA.

Section 603(a) of the RFA requires that each initial regulatory flexibility analysis contain the following information:

• A description of the reasons action by the agency is being considered;

• A succinct statement of the objectives of, and legal basis for, the proposed rule;

• A description of and, where feasible, an estimate of the number of small entities to which the proposed rule will apply;

• A description of the projected reporting, recordkeeping and other compliance requirements of the proposed rule, including an estimate of the classes of small entities which will be subject to the requirement and the type of professional skills necessary for preparation of the report or record;

• To the extent practicable, an identification of all relevant Federal rules which may duplicate, overlap, or conflict with the proposed rule; and

• A description of any significant alternatives to the proposed rule which accomplish the stated objectives of applicable statues and which minimize any significant economic impact of the proposed rule on small entities.

The following represents a detailed description of the six items required by section 603(a) of the RFA.

1. A Description of the Reasons Action by the Agency Is Being Considered

This proposed AD results from mandatory continuing airworthiness information (MCAI) originated by EASA and would supersede AD 2008-24-11, Amendment 39-15751 (73 FR 72314; November 28, 2008). AD 2008-24-11 established safe limits for the wing structure of Vulcanair P 68 series airplanes and required repetitive inspection and repair of the wing and stabilator structures when the airplanes reach safe life limits. Operation beyond existing conservative safe limits (with inspections and repair) is allowed pending establishment of final safe limits and a terminating action.

The proposed AD significantly increases wing structure life limits (in a few cases requiring kit modification of the wing structure), but establishes a terminating action requiring replacement of the wing structure and wing fuselage attachments and bolts when new established safe limits are reached. Prior to the wing structure safe life limit being reached, the proposed AD also requires special inspections of the wing structure with time limits, since new, of 6,000; 12,000; and 18,000 flight hours.

2. Objectives of, and Legal Basis for, the Proposed Rule

Title 49 of the U.S. Code specifies the FAA's authority to issue rules on aviation safety. Subtitle I, section 106, describes the authority of the FAA Administrator. Subtitle VII, Aviation Programs, describes in more detail the scope of the FAA's authority. We propose this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on the airplanes identified in this AD.

3. A Description of and an Estimate of the Number of Small Entities to Which the Proposed Rule Will Apply

This proposed rule would affect 67 U.S.-registered airplanes, of which 40 are owned by corporations, 8 by individuals, 2 by the Federal Government, and 17 by state governments. Of the 48 airplanes held by private sector parties, one financing firm owns 2 of them, and 2 operators each own 2 of them. The remaining 36 airplanes are owned by 36 corporations and individuals. The FAA believes that all, or nearly all, of these private sector owners are privately held small firms, for which we cannot obtain financial records. We conclude that the proposed rule would affect a substantial number of small entities.

4. Reporting, Record Keeping, and Other Compliance Requirements of the Proposed Rule

Small entities will incur no new reporting and record-keeping requirements as a result of this rule.

The additional requirements of the proposed AD compared to AD 2008-24-11, Amendment 39-15751 (73 FR 72314; November 28, 2008) are the special wing structure inspections at 6,000; 12,000; and 18,000 flight hours; the terminating action to replace the wing structure when the wing structure safe limit is reached; and, for airplanes with serial numbers 1-256 for which a spar crack was found under previous Partenavia Costruzioni Aeronautiche S.p.A. Service Bulletin No. 65, Revison 3, dated September 30, 1985, replacement of the four main spar lower cap angles using Vulcanair S.p.A. Service Bulletin No. 162, dated March 1, 2010. The costs of the required actions provided in the proposed AD are as follows:

Requirement | Work-hours | Labor cost | Cost of materials | Total cost
Special inspections | 60 | $5,100 |
Wing structure replacement | 300 | 25,500 | $443,406 | $468,906
Replacement of lower spar cap angles with Service Bulletin 162 (S/N 1-256) | 120 | 10,200 | 2,595 | 12,795
Figure 1 of the Initial Regulatory Flexibility Analysis in this AD.

The requirement to replace the wing structure, at considerable cost, occurs when the airplanes are old and have low value, often less than the cost of wing structure replacement. Therefore, in many cases airplane retirement is the least cost alternative, in which case the effective cost of the requirement is the loss in airplane value net of salvage value. The requirement to replace the lower spar cap angles applies to at most ten U.S.-registered airplanes and only if a front spar crack was previously found under Partenavia Costruzioni Aeronautiche S.p.A. Service Bulletin No. 65, Revison 3, dated September 30, 1985. The expected present value cost of this requirement is thus minimal. The requirement for special inspections at 6,000; 12,000; and 18,000 flight hours applies to all AD-affected airplanes.

Economic Impact on Small Entities

Since we have no financial information of the privately held firms that constitute most of the operators of the affected airplanes, we assess the economic impact of the proposed rule using airplane values. As the Vulcanair P 68 airplanes are not listed in the Aircraft Bluebook Price Digest, we undertook an internet search and found that the resale value of older P 68 airplanes, manufactured between 1975 and 1984 ranged from about $80,000 to $300,000. Many of these airplanes will be subject to the special inspection at 6,000 hours or even the special inspection at 12,000 hours. Using a significant economic impact criterion of 2 percent of airplane value, for operators of many of these airplanes there is a significant economic impact based on just one $5,100 inspection. Taking into account the present value cost of two to three possible future inspections and possible repair, as well as the present value cost of forced early retirement, there is a significant economic impact on most if not all of these operators.

Therefore, we conclude that this proposed rule will have a significant impact on a substantial number of firms.

5. Duplicative, Overlapping or Conflicting Federal Rules

The FAA is unaware of any Federal rules that duplicate, overlap, or conflict with this proposed rule.

6. Significant Alternatives to the Proposed Rule

Because of an unsafe condition that is likely to exist or develop on the airplanes identified in this proposed AD, there is no feasible significant alternative to requiring the actions of this proposed AD. The FAA invites public comment on this determination.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15751 (73 FR 72314; November 28, 2008), and adding the following new AD:

Vulcanair S.p.A. (Type Certificate Previously Held by Partenavia): Docket No. FAA-2013-0602; Directorate Identifier 2012-CE-010-AD.

(a) Comments Due Date

We must receive comments by August 23, 2013.

(b) Affected ADs

This AD supersedes AD 2008-24-11, Amendment 39-15751 (73 FR 72314; November 28, 2008).

(c) Applicability

This AD applies to Vulcanair S.p.A. Models P 68, P 68B, P 68C, P 68C-TC, P 68 “OBSERVER,” P68TC “OBSERVER,” and P68 “OBSERVER 2” airplanes, serial numbers (S/N) 01 through 429, S/Ns 431 through 452, and S/N 454, certificated in any category.

(d) Subject

Air Transport Association of America (ATA) Code 57: Wings.

(e) Reason

This AD was prompted by mandatory continuing airworthiness information (MCAI) originated by an aviation authority of another country to identify and correct an unsafe condition on an aviation product. The MCAI describes the unsafe condition as cracking and/or corrosion of the wing spar. We are issuing this AD to detect and correct cracking and corrosion of the wing spars, which, if not corrected, could result in structural failure of the wing.

(f) Actions and Compliance

Unless already done, do the following actions specified in paragraphs (f)(1) through (f)(8) of this AD, to include all subparagraphs.

(1) Within 10 days after the effective date of this AD, incorporate Vulcanair S.p.A. Maintenance Manual Supplement NOR10.771-52, dated March 1, 2010, into the FAA-approved maintenance program (maintenance manual) following Vulcanair S.p.A. Service Bulletin No. 162, dated March 1, 2010.

(2) Within 10 days after the effective date of this AD, determine the safe life limit of the wing structure as follows:

(i) For all rows except rows (c) and (e) in table 1, of paragraph 1.3, of Vulcanair S.p.A. Service Bulletin No. 162, dated March 1, 2010, use the safe life limit specified in the appropriate row of the table; and

(ii) For rows (c) and (e) in table 1, of paragraph 1.3, of Vulcanair S.p.A. Service Bulletin No. 162, dated March 1, 2010, before further flight, you must modify the wing structure following Vulcanair S.p.A. Service Bulletin No. 162, dated March 1, 2010. After modification, use the safe life limit specified in the appropriate row of the table.

(3) Before reaching the life limit as determined in paragraph (f)(2) of this AD, before further flight, you must replace the wing structure and wing fuselage attachments and bolts with new ones. Do the replacement following Vulcanair S.p.A Maintenance Manual Supplement NOR10.771-52, dated March 1, 2010, as specified in the instructions in WORK PROCEDURE, paragraph 2 of Vulcanair S.p.A. Service Bulletin No. 162, dated March 1, 2010.

(4) Do an initial inspection of the wing structure as specified in the instructions in paragraph 2.1 of Vulcanair S.p.A. Service Bulletin No. 162, dated March 1, 2010, at the applicable times as specified in paragraphs (f)(4)(i) and (f)(4)(ii). Repetitively thereafter inspect and replace the wing structure following the limitations in Vulcanair S.p.A. Maintenance Manual Supplement NOR10.771-52, dated March 1, 2010.

(i) For aircraft that have not exceeded the safe life limit hours time-in-service (TIS) on the wing structure as determined in paragraph (f)(2) of this AD: Before accumulating 6,000 hours TIS on the wing structure or within 100 hours TIS after the effective date of this AD, whichever occurs later, follow Vulcanair S.p.A. Maintenance Manual Supplement NOR10.771-52, dated March 1, 2010. You may take unless already done credit for this inspection if inspected in compliance with AD 2008-24-11 (73 FR 72314; November 28, 2008); or

(ii) For aircraft that have exceeded the safe life limit hours TIS on the wing structure as determined in paragraph (f)(2) of this AD: Within 100 hours TIS after the effective date of this AD, follow Vulcanair S.p.A. Service Bulletin No. 162, dated March 1, 2010.

(5) Before accumulating 8,500 hours TIS since new on the stabilator, within 500 hours TIS after January 2, 2009 (the effective date of AD 2008-24-11 (73 FR 72314; November 28, 2008)), or within 500 hours TIS from the last inspection done in compliance with AD 2008-24-11, whichever occurs later, do the initial inspection of the stabilator following Vulcanair S.p.A. Maintenance Manual Supplement NOR10.771-52, paragraph 2.2, dated March 1, 2010, or Vulcanair S.p.A. Service Bulletin No. 120 Rev. 1, dated June 7, 2006. Repetitively thereafter inspect the stabilator following the limitations in Vulcanair S.p.A. Maintenance Manual Supplement NOR10.771-52, dated March 1, 2010.

(6) If any cracks are found during the inspections required in paragraphs (f)(4) and/or (f)(5) of this AD, before further flight, modify the wing structure following Vulcanair S.p.A. Service Bulletin No. 162, dated March 1, 2010.

(7) For certain Model P 68 airplanes, AD 2009-24-03, Amendment 39-16090 (74 FR 62211, November 27, 2009) requires repetitive inspections of the front and rear wing spars for cracks and modification if cracks are found. The modification terminates the repetitive inspections required in AD 2009-24-03 and may be done regardless if cracks are found. The actions of AD 2009-24-03 are independent of this AD action and remain in effect.

(8) EASA AD No.: 2010-0051, dated March 25, 2010; Vulcanair S.p.A. Maintenance Manual Supplement NOR10.771-52, dated March 1, 2010; Vulcanair S.p.A. Service Bulletin No. 162, dated March 1, 2010; Vulcanair S.p.A. Service Instruction No. 88, dated March 1, 2010; and Vulcanair S.p.A. Service Instruction No. 89, dated March 1, 2010, base the required preventive and corrective actions on allowing flight with known cracks in critical structure. The FAA's Small Airplane Directorate does not allow further flight with known cracks in critical structure without additional substantiating data. Advisory Circular (AC) 23-13A,Chapter 6, dated September 29, 2005, describes what additional data is required to allow flight with known cracks (found on the Internet at http://rgl.faa.gov/Regulatory_and_Guidance_Library/rgAdvisoryCircular.nsf).

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Safety Engineer, FAA, Small Airplane Directorate, 901 Locust, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

(1) Refer to MCAI European Aviation Safety Agency (EASA) AD No. 2010-0051, dated March 25, 2010, which may be found in the AD docket on the Internet at http://www.regulations.gov; Vulcanair S.p.A. Service Instruction No. 88, dated March 1, 2010; and Vulcanair S.p.A. Service Instruction No. 89, dated March 1, 2010, for related information.

(2) For service information identified in this AD, contact Vulcanair Airworthiness Office, Via G Pascoli, 7, 80026 Casoria, Italy; phone: +39 081 59 18 135; fax: +39 081 59 18 172; email: airworthiness@vulcanair.com; Internet: http://www.vulcanair.com/page-view.php?pagename=Service-Bulletins.

(3) You may view this service information at FAA, Small Airplane Directorate, 901 Locust, Kansas City, Missouri 64106. For information on the availability of this material at the FAA, call (816) 329-4148.

Issued in Kansas City, Missouri, on July 2, 2013.
Earl Lawrence,
Manager, Small Airplane Directorate, Aircraft Certification Service.

[FR Doc. 2013-16394 Filed 7-8-13; 8:45 am]

BILLING CODE 4910-13-P